DEPARTMENT OF THE INTERIOR

Bureau of Land Management

[LLAK963000-L14300000-ET0000; AA-12484]

Public Land Order No. 7808; Extension of Public Land Order No. 6965; AK

AGENCY: Bureau of Land Management, Interior.

ACTION: Public Land Order.

SUMMARY: This order extends the withdrawal created by Public Land Order (PLO) No. 6965 for an additional 20-year period. This extension is necessary to allow the continued protection of the U.S. Forest Service research natural area within the Tongass National Forest, which would otherwise expire on April 14, 2013. The land has been and will remain open to mineral leasing.

DATES: Effective Date: April 15, 2013.

FOR FURTHER INFORMATION CONTACT: Robert L. Lloyd, BLM Alaska State Office, 222 West 7th Avenue, No. 13, Anchorage, Alaska 99513-7504. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The purpose for which this withdrawal was first made requires this extension to continue the protection of the Dog Island Research Natural Area within the Tongass National Forest, to maintain a natural ecological complex containing Pacific yew, and to preserve the land for research, science, and educational purposes. The withdrawal extended by this order will expire on April 14, 2033, unless, as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6965 (58 FR 19612 (1993)) which withdrew approximately 685 acres of public land from settlement, sale, location, or entry under the public land laws, including the United States mining laws but not from leasing under the mineral leasing laws, to protect the Dog Island Research Natural Area, is hereby extended for an additional 20-year period until April 14, 2033.

Dated: February 13, 2013.
Rhea S. Suh,
Assistant Secretary—Policy, Management and Budget.

[FR Doc. 2013-03989 Filed 2-20-13; 8:45 am]

BILLING CODE 4310-JA-P